DEPARTMENT OF AGRICULTURE

Animal and Plant Health Inspection Service

7 CFR Part 319

Foreign Quarantine Notices

CFR Correction

In Title 7 of the Code of Federal Regulations, parts 300 to 399, revised as of January 1, 2000, on pages 322 and 323, beginning in the first column, the second §319.74-3 and §319.74-4 should be removed.

[FR Doc. 00-55515 Filed 10-24-00; 8:45 am]

BILLING CODE 1505-01-D